NUCLEAR REGULATORY COMMISSION

10 CFR Part 51

[NRC-2018-0300]

RIN 3150-AK54

Categorical Exclusions from Environmental Review

AGENCY: Nuclear Regulatory Commission.

ACTION: Advance notice of proposed rulemaking; reopening of comment period.

SUMMARY: On May 7, 2021, the U.S. Nuclear Regulatory Commission (NRC) requested public comment on an advance notice of proposed rulemaking to obtain input from stakeholders on the agency's plan to amend its regulations on categorical exclusions for licensing, regulatory, and administrative actions that individually or cumulatively do not have a significant effect on the human environment. The public comment period closed on July 21, 2021. The NRC has decided to reopen the public comment period until September 21, 2021, to allow more time for members of the public to develop and submit their comments.

DATES: The comment period for the advance notice of proposed rulemaking published on May 7, 2021 (86 FR 24514), is reopened and now closes on September 21, 2021. Comments received after this date will be considered, if it is practical to do so, but the NRC is able to ensure consideration only for comments received on or before this date.

ADDRESSES: You may submit comments by any of the following methods; however, the NRC encourages electronic comment submission through the Federal rulemaking website:

• Federal rulemaking website: Go to https://www.regulations.gov and search for Docket ID NRC-2018-0300. Address questions about NRC dockets to Dawn Forder; telephone: 301-415-3407; email: Dawn.Forder@nrc.gov. For technical questions, contact the individual listed in the FOR FURTHER INFORMATION CONTACT section of this document.

• Email comments to: Rulemaking.Comments@nrc.gov. If you do not receive an automatic email reply confirming receipt, then contact us at 301-415-1677.

• Mail comments to: Secretary, U.S. Nuclear Regulatory Commission, Washington, DC 20555-0001, ATTN: Rulemakings and Adjudications Staff.

For additional direction on obtaining information and submitting comments, see “Obtaining Information and Submitting Comments” in the SUPPLEMENTARY INFORMATION section of this document.

FOR FURTHER INFORMATION CONTACT: Gregory R. Trussell, Office of Nuclear Material Safety and Safeguards, U.S. Nuclear Regulatory Commission, Washington, DC 20555-0001; telephone: 301-415-6445, email: Gregory.Trussell@nrc.gov.

SUPPLEMENTARY INFORMATION:

I. Obtaining Information and Submitting Comments

A. Obtaining Information

Please refer to Docket ID NRC-2018-0300 when contacting the NRC about the availability of information for this action. You may obtain publicly available information related to this action by any of the following methods:

• Federal rulemaking website: Go to http://www.regulations.gov and search for Docket ID NRC-2018-0300.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

• Attention: The PDR, where you may examine and order copies of public documents, is currently closed. You may submit your request to the PDR via email at pdr.resource@nrc.gov or call 1-800-397-4209 between 8:00 a.m. and 4:00 p.m. (EST), Monday through Friday, except Federal holidays.

B. Submitting Comments

The NRC encourages electronic comment submission through the Federal rulemaking website (https://www.regulations.gov). Please include Docket ID NRC-2018-0300 in your comment submission.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Discussion

On May 7, 2021 (86 FR 24514), the NRC requested public comment on an advance notice of proposed rulemaking to obtain input from stakeholders on the agency's plan to amend its regulations on categorical exclusions for licensing, regulatory, and administrative actions that individually or cumulatively do not have a significant effect on the human environment. The NRC received a request to extend the comment period for the advance notice of proposed rulemaking. The comment period is reopened and now closes on September 21, 2021.

Dated: August 17, 2021.
For the Nuclear Regulatory Commission.
Margaret M. Doane,
Executive Director for Operations.

[FR Doc. 2021-18058 Filed 8-20-21; 8:45 am]

BILLING CODE 7590-01-P